DEPARTMENT OF COMMERCE

National Institute of Standards and Technology

Open Meeting of the Information Security and Privacy Advisory Board

AGENCY: National Institute of Standards and Technology, Commerce.

ACTION: Notice.

SUMMARY: The Information Security and Privacy Advisory Board (ISPAB) will meet Wednesday, June 11, 2014, from 8:00 a.m. until 5:00 p.m. Eastern Time, Thursday, June 12, 2014, from 8:00 a.m. until 5:00 p.m. Eastern Time, and Friday, June 13, 2014, from 8:00 a.m. until 12:00 p.m. Eastern Time. All sessions will be open to the public.

DATES: The meeting will be held on Wednesday, June 11, 2014, from 8:00 a.m. until 5:00 p.m. Eastern Time, Thursday, June 12, 2014, from 8:00 a.m. until 5:00 p.m. Eastern Time, and Friday, June 13, 2014, from 8:00 a.m. until 12:00 p.m. Eastern Time.

ADDRESSES: The meeting will be held at Courtyard Washington, DC/U.S. Capitol, 1325 2nd Street NE., Washington, DC 20002 (TEL. 202-898-4000).

FOR FURTHER INFORMATION CONTACT: Annie Sokol, Information Technology Laboratory, National Institute of Standards and Technology, 100 Bureau Drive, Mail Stop 8930, Gaithersburg, MD 20899-8930, telephone: (301) 975-2006, or by email at: annie.sokol@nist.gov.

SUPPLEMENTARY INFORMATION: Pursuant to the Federal Advisory Committee Act, as amended, 5 U.S.C. App., notice is hereby given that the Information Security and Privacy Advisory Board (ISPAB) will meet Wednesday, June 11, 2014, from 8:00 a.m. until 5:00 p.m. Eastern Time, Thursday, June 12, 2014, from 8:00 a.m. until 5:00 p.m. Eastern Time, and Friday, June 13, 2014, from 8:00 a.m. until 12:00 p.m. Eastern Time. All sessions will be open to the public. The ISPAB is authorized by 15 U.S.C. 278g-4, as amended, and advises the National Institute of Standards and Technology (NIST), and the Director of the Office of Management (OMB) on information security and privacy issues pertaining to federal information systems. Details regarding the ISPAB's activities are available at http://csrc.nist.gov/groups/SMA/ispab/index.html.

The agenda is expected to include the following items:

—Updates on NIST and the process for developing standards/guidance for cryptography,

—Discussion on Derived Credentials (NIST SP 800-157, Draft Guidelines for Derived Personal Identity Verification (PIV) Credentials, and NIST IR 7981, draft Mobile, PIV, and Authentication),

—Discussion on report on Federal Information Security Management Act of 2002 (FISMA),

—Panel Discussion on Inspector Generals and implementation of SP 800-53 Appendix J Privacy,

—Discussion of performance and effectiveness of Federal Risk and Authorization Management Program (FedRAMP) and cloud computing for the Federal Government,

—Discussion on Executive Order 13556, Controlled Unclassified Information (CUI), and safeguarding information,

—Panel Discussion of US-CERT ‖ United States Computer Emergency Readiness—Use and Outcomes,

—Discussion on Advancing Information Security in Medical Technologies and Medical Devices, and

—Updates on NIST Computer Security Division.

Note that agenda items may change without notice. The final agenda will be posted on the Web site indicated above. Seating will be available for the public and media.

Public Participation: The ISPAB agenda will include a period of time, not to exceed thirty minutes, for oral comments from the public (Friday, June 13, 2014, between 9:30 a.m. and 10:00 a.m.). Speakers will be selected on a first-come, first-served basis. Each speaker will be limited to five minutes. Questions from the public will not be considered during this period. Members of the public who are interested in speaking are requested to contact Annie Sokol at the contact information indicated in the FOR FURTHER INFORMATION CONTACT section of this notice.

Speakers who wish to expand upon their oral statements, those who had wished to speak but could not be accommodated on the agenda, and those who were unable to attend in person are invited to submit written statements. In addition, written statements are invited and may be submitted to the ISPAB at any time. All written statements should be directed to the ISPAB Secretariat, Information Technology Laboratory, 100 Bureau Drive, Stop 8930, National Institute of Standards and Technology, Gaithersburg, MD 20899-8930.

Dated: May 12, 2014.
Willie E. May,
Associate Director for Laboratory Programs.

[FR Doc. 2014-11424 Filed 5-15-14; 8:45 am]

BILLING CODE 3510-13-P